DEPARTMENT OF JUSTICE

Notice of Lodging of Settlement Stipulation Under the Comprehensive Environmental Response, Compensation and Liability Act

Notice is hereby given that on October 18, 2004, a proposed Settlement Agreement in In re Federal-Mogul Global Corporation, et al. Case No. 01-10578 (Bankr. D. Del.), was lodged with the United States Bankruptcy Court for the District of Delaware.

During negotiations regarding this bankruptcy case, the United States asserted that it has certain claims against the estates of two debtors, Federal-Mogul Corporation and Federal-Mogul Ignition Corporation. The proposed Settlement Agreement would resolve the claims of the United States, and certain state and local governments, against various debtors for the recovery of response costs, incurred at 14 sites, under Section 104(a) of the Comprehensive Environmental Response, Compensation and Liability Act, as amended, 42 U.S.C. 9604(a), and analogous state statutes. In addition, the proposed Settlement Agreement would permit governmental entities and other settlers to resolve in due course any alleged liabilities of debtors at 58 listed “Additional Sites” or any other Additional Site (e.g., a presently unknown site), whether prior to or following the effective date of a confirmed reorganization plan. Any settlements reached or judgments obtained regarding Additional Sites will be paid at the rate at which general unsecured claims in the bankruptcy case will be paid. Under Debtors' proposed Third Amended Joint Plan of Reorganization, which is to be the subject of a confirmation hearing on December 9, 2004, that rate is 35%.

Under the proposed settlement, the United States will receive, on behalf of the United States Environmental Protection Agency, allowed secured claims for response costs respecting four Sites totaling $213,080.46. In addition, the United States will receive allowed general unsecured claims relating to two Sites (one of which is among the four Sites with respect to which the United States also has a secured claim) totaling $1,451,201.

The Department of Justice will receive for a period of thirty (30) days from the date of this publication comments relating to the proposed Settlement Agreement. Comments should be addressed to the Assistant Attorney General, Environment and Natural Resources Division, P.O. Box 7611, U.S. Department of Justice, Washington, DC 20044-7611, and should refer to In re Federal-Mogul Global Corporation, DJ No. 90-11-2-770/2.

The proposed Settlement Agreement may be examined at the Office of the United States Attorney, District of Delaware, 1007 N. Orange Street, Suite 700, Wilmington, Delaware 19801, and at the Region III Office of the Environmental Protection Agency, 1650 Arch St., Philadelphia, Pennsylvania 19103. During the public comment period, the Stipulation and Agreement may also be examined on the following Department of Justice Web site, http://www.usdoj.gov/enrd/open.html. A copy of the Stipulation and Agreement may be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $23.25 (25 cents per page reproduction cost) payable to the U.S. Treasury. In all correspondence, please refer to the case by its title and DOJ Ref #90-11-2-770/2.

Robert D. Brook,
Assistant Chief, Environmental Enforcement Section, Environment and Natural Resources Division.

[FR Doc. 04-23701 Filed 10-21-04; 8:45 am]

BILLING CODE 4410-15-M